DEPARTMENT OF VETERANS AFFAIRS

[OMB Control No. 2900-0800]

Agency Information Collection Activity: Airborne Hazards and Open Burn Pit Registry (AHOBPR) Web-Accessible Self-Assessment/Questionnaire

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before July 5, 2019.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0800” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Airborne Hazards and Open Burn Pit Registry (AHOBPR) Web-accessible Self-Assessment/Questionnaire, VA Form 10-10066.

OMB Control Number: 2900-0800.

Type of Review: Reinstatement with change of a previously approved collection.

Abstract: Public Law 112-260 Section 201, enacted by President Obama on 10 January 2013, required Department of Veterans Affairs (VA) to establish and maintain an “Airborne Hazards and Open Burn Pit Registry (AHOBPR)” no later than one year from enactment. VA launched the AHOBPR in June 2014. There is no sunset date identified in the law. The Secretary of Veterans Affairs may “include any information in such registry that the Secretary of Veterans Affairs determines necessary to ascertain and monitor the health effects of the exposure of members of the Armed Forces to toxic airborne chemicals and fumes caused by open burn pits.” Currently, VA plans to operate the AHOBPR indefinitely, and we request approval to continue administering the questionnaire.

The Qarmat Ali (QA) program is a new request for a follow-up information collection for a subset of Veterans impacted by a specific airborne hazard. In the Spring and Summer of 2003, approximately 700 U.S. Servicemembers may have been impacted by a specific airborne hazard while serving at a water injection plant in Qarmat Ali, Iraq. The Department of Defense (DoD) was unable to determine specific exposure levels near the water treatment facility. In 2010, in response to DoD's notification, the VA offered no-cost medical evaluations and encouraged the cohort to enroll in a new Qarmat Ali medical surveillance program within the Gulf War Registry. The QA cohort is also eligible to participate in the AHOBPR program due to their deployment to Iraq. As part of the planned 5-year periodic medical follow-up and surveillance program, self-reported information will be collected through the AHOBPR as outlined above. Information collected is voluntary and is used to provide outreach and quality health services to AHOBPR participants. Collected data contributes to VA's ability to understand the potential health effects of the exposure to burn pit emissions and other airborne hazards during deployment, such as particulate matter.

Airborne Hazards and Open Burn Pit Registry (AHOBPR) Self-Assessment/Questionnaire:

Affected Public: Individuals and households.

Estimated Annual Burden: 33,333 hours.

Estimated Average Burden per Respondent: 40 minutes.

Frequency of Response: Once.

Estimated Number of Respondents: 50,000.

Subset of AHOBPR, Qarmat Ali Questionnaire:

Affected Public: Individuals and households.

Estimated Annual Burden: 114 hours.

Estimated Average Burden per Respondent: 10 minutes.

Frequency of Response: Once.

Estimated Number of Respondents: 686.

By direction of the Secretary.
Danny S. Green,
Interim VA Clearance Officer, Office of Quality, Performance and Risk (OQPR), Department of Veterans Affairs.

[FR Doc. 2019-09154 Filed 5-3-19; 8:45 am]

BILLING CODE 8320-01-P